DEPARTMENT OF HEALTH AND HUMAN SERVICES

Food and Drug Administration

21 CFR Part 73

[Docket No. 00C-0929]

Listing of Color Additives Exempt From Certification; Sodium Copper Chlorophyllin; Confirmation of Effective Date

AGENCY: Food and Drug Administration, HHS.

ACTION: Final rule; confirmation of effective date.

SUMMARY: The Food and Drug Administration (FDA) is confirming the effective date of June 20, 2002, for the final rule that appeared in the Federal Register of May 20, 2002 (67 FR 35429). The final rule amended the color additive regulations to provide for the safe use of sodium copper chlorophyllin as a color additive in citrus-based dry beverage mixes.

DATES: Effective date confirmed: June 20, 2002.

FOR FURTHER INFORMATION CONTACT: Aydin Örstan, Center for Food Safety and Applied Nutrition (HFS-265), Food and Drug Administration, 5100 Paint Branch Pkwy., College Park, MD 20740, 202-418-3076.

SUPPLEMENTARY INFORMATION: In the Federal Register of May 20, 2002 (67 FR 35429), FDA amended the color additive regulations to add § 73.125 Sodium copper chlorophyllin (21 CFR 73.125) to provide for the safe use of sodium copper chlorophyllin as a color additive in citrus-based dry beverage mixes.

FDA gave interested persons until June 19, 2002, to file objections or requests for a hearing. The agency received no objections or requests for a hearing on the final rule. Therefore, FDA finds that the effective date of the final rule that published in the Federal Register of May 20, 2002, should be confirmed.

List of Subjects in 21 CFR Part 73

Color additives, Cosmetics, Drugs, Medical devices.

Therefore, under the Federal Food, Drug, and Cosmetic Act (21 U.S.C. 321, 341, 342, 343, 348, 351, 352, 355, 361, 362, 371, 379e) and under authority delegated to the Commissioner of Food and Drugs (21 CFR 5.10), notice is given that no objections or requests for a hearing were filed in response to the May 20, 2002, final rule. Accordingly, the amendments issued thereby became effective June 20, 2002.

Dated: July 25, 2002.
Margaret M. Dotzel,
Associate Commissioner for Policy.

[FR Doc. 02-19300 Filed 7-30-02; 8:45 am]

BILLING CODE 4160-01-S